DEPARTMENT OF STATE

[Public Notice:11268]

Notice of Public Meeting in Preparation for International Maritime Organization Meeting

The Department of State will conduct a public meeting at 10:00 a.m. on Thursday, December 3, 2020, by way of teleconference. Members of the public may participate up to the capacity of the teleconference phone line, which will handle 500 participants. To access the teleconference line, participants should call (202) 475-4000 and use Participant Code: 415 533 25#. This is not a meeting of the Shipping Coordinating Committee.

The primary purpose of the public meeting is to prepare for the 70th session of the International Maritime Organization's (IMO) Technical Cooperation Committee to be held remotely, December 7 to 11, 2020.

The agenda items to be considered include:

—Adoption of the agenda

—Work of other bodies and organizations

—Integrated Technical Cooperation Programme: Annual report for 2019

—Resource mobilization and partnerships

—The 2030 Agenda for Sustainable Development

—Regional presence and coordination

—IMO Member State Audit Scheme

—Capacity-building: Strengthening the impact of women in the maritime sector

—Global maritime training institutions

—Application of the document on the Organization and method of work of the Technical Cooperation Committee

—Work programme

—Election of Chair and Vice-Chair for 2021

— Any other business

—Consideration of the report of the Committee on its seventieth session

Please note: the Committee may, on short notice, adjust the TC 70 agenda to accommodate the constraints associated with the virtual meeting format. The meeting coordinator will notify those who RSVP of any announced changes.

Those who plan to participate may contact the meeting coordinator, LT Jessica Anderson, by email at Jessica.P.Anderson@uscg.mil, by phone at (202) 372-1376, or in writing at 2703 Martin Luther King Jr. Ave. SE Stop 7509, Washington, DC 20593-7509.

Additional information regarding this and other IMO public meetings may be found at: https://www.dco.uscg.mil/IMO

Jeremy M. Greenwood,
Coast Guard Liaison Officer, Office of Ocean and Polar Affairs, Department of State.

[FR Doc. 2020-26002 Filed 11-24-20; 8:45 am]

BILLING CODE 4710-09-P